DEPARTMENT OF ENERGY

Federal Energy Regulatory Commission

[Docket No. CP10-62-000]

Dominion Transmission, Inc.

February 18, 2010.

Take notice that on February 4, 2010, Dominion Transmission, Inc. (DTI), 701 East Cary Street, Richmond, Virginia 23219, filed in Docket No. CP10-62-000, a prior notice request pursuant to sections 157.205 and 157.216 of the Federal Energy Regulatory Commission's regulations under the Natural Gas Act for authorization to plug and abandon one well located in the Oakford Storage complex in Westmoreland County, Pennsylvania, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, DTI proposes to plug and abandon well JW-481, located in the Murrysville Reservoir of the Oakford Storage Complex. DTI declares that the plugging of the well will help maintain storage field integrity. DTI asserts that the certificated physical parameters, including total inventory, reservoir pressure, reservoir and buffer boundaries, and certificated capacity (including injection and withdrawal capacity) of the Oakford Storage Complex will remain unchanged from the plugging and abandoning of the storage well. DTI states that the proposed abandonment will not result in any diminution of service or any adverse environmental impact, nor will the proposed abandonment have any adverse consequences on existing customers, existing pipelines or landowners and communities, and will not result in any financial subsidization from existing customers.

Any questions regarding the application should be directed to Amanda K. Prestage, Regulatory and Certificates Analyst, Dominion Transmission, Inc., 701 East Cary Street, Richmond, Virginia 23219, telephone number (804) 771-4416, facsimile number (804) 771-4804, or e-mail: Amanda.K.Prestage@dom.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose
Secretary.

[FR Doc. 2010-3628 Filed 2-23-10; 8:45 am]

BILLING CODE 6717-01-P